DEPARTMENT OF HOMELAND SECURITY

Coast Guard

33 CFR Part 165

[Docket No. USCG-2011-0959]

Drawbridge Operation Regulation; Gulf Intracoastal Waterway (Algiers Alternate Route), Belle Chasse, LA

ACTION: Notice of Proposed Rulemaking; Correction.

SUMMARY: In the Federal Register published on December 2, 2011, the Coast Guard placed the Notice of Proposed Rulemaking, Gulf Intracoastal Waterway (Algiers Alternate Route), Belle Chasse, LA. That publication contained an error in the “Discussion of Proposed Rule” section stating an incorrect date of the Test Deviation issued in conjunction with the Notice of Proposed Rulemaking. The Test Deviation is scheduled to commence on December 15, 2011 vice the December 19, 2011 date published in the Notice of Proposed Rulemaking. The Notice of Proposed Rulemaking should reflect the correct date of December 15, 2011. This error does not impact the Test Deviation.

DATES: This correction is effective December 8, 2011.

FOR FURTHER INFORMATION CONTACT: For information about this correction, contact Erin Anderson, Office of Regulations and Administrative Law, telephone (202) 372-3849, email erin.w.anderson@uscg.mil. For information about the original regulation, contact Donna Gagliano, Coast Guard; telephone (504) 671-2128, email Donna.Gagliano@uscg.mil.

SUPPLEMENTARY INFORMATION: In FR Vol. 76, No. 232, USCG 2011-0959, appearing on page 75507 in the issue of Friday, December 2, 2011, the following correction is made:

1. On page 75507, in the first column, in the one place that “December 19, 2011” appears, remove “December 19, 2011” and replace with “December 15, 2011”.

Dated: December 2, 2011.
Kathryn Sinniger,
Chief, Office of Regulations and Administrative Law, U.S. Coast Guard.

[FR Doc. 2011-31454 Filed 12-7-11; 8:45 am]

BILLING CODE 4910-15-P